DEPARTMENT OF COMMERCE

International Trade Administration

[A-552-802]

Certain Frozen Warmwater Shrimp From the Socialist Republic of Vietnam: Rescission of Antidumping Duty New Shipper Review

AGENCY: Enforcement and Compliance, formerly Import Administration, International Trade Administration, Department of Commerce.

SUMMARY: In response to a request from Goldenquality Seafood Corporation (“Goldenquality”), the Department of Commerce (“the Department”) initiated a new shipper review of the antidumping duty order on certain frozen warmwater shrimp from the Socialist Republic of Vietnam (“Vietnam”) covering the period February 1, 2013 through July 31, 2013.¹ On October 31, 2013, Goldenquality timely withdrew its request for a new shipper review. Accordingly, the Department is rescinding the new shipper review with respect to Goldenquality.

¹ See Certain Frozen Warmwater Shrimp from the Socialist Republic of Vietnam: Initiation of Antidumping Duty New Shipper Review, 78 FR 59650 (September 27, 2013) (“Initiation Notice”).

DATES: Effective Date: December 3, 2013.

FOR FURTHER INFORMATION CONTACT: Katie Marksberry, AD/CVD Operations, Office V, Enforcement & Compliance, International Trade Administration, Department of Commerce, 14th Street and Constitution Avenue NW., Washington, DC 20230; telephone: (202) 482-7906.

Rescission of New Shipper Review

On September 27, 2013, the Department initiated a new shipper review of Goldenquality, and on October 31, 2013, Goldenquality withdrew its new shipper review request.² 19 CFR 351.214(f)(1) provides that, the Department may rescind a new shipper review, if the party that requested the review withdraws its request for review within 60 days of the date of publication of the notice of initiation of the requested review. Given that Goldenquality withdrew its request for a new shipper review timely, the Department is rescinding the new shipper review of the antidumping duty order on certain frozen warmwater shrimp from Vietnam with respect to Goldenquality. Consequently, Goldenquality will remain part of the Vietnam-wide entity.

² See letter from Goldenquality entitled “Certain Frozen Warmwater Shrimp from the Socialist Republic of Vietnam: Withdrawal of Request for a New Shipper Review,” dated October 31, 2013.

Assessment

Goldenquality remains under review in the ongoing administrative review covering the 2012-2013 POR, as part of the Vietnam-wide entity.³ Therefore, the Department will not order liquidation of entries for Goldenquality. The Department intends to issue liquidation instructions for the Vietnam-wide entity, which will cover any entries by Goldenquality, 15 days after publication of the final results of the ongoing administrative review covering the 2012-2013 POR.

³ See Initiation of Antidumping and Countervailing Duty Reviews and Request for Revocation in Part, 78 FR 19197 (March 29, 2013).

Cash Deposit

The Department will notify U.S. Customs and Border Protection (“CBP”) that bonding is no longer permitted to fulfill security requirements for subject merchandise produced and exported by Goldenquality that is entered, or withdrawn from warehouse, for consumption in the United States on or after the publication of this rescission notice in the Federal Register. The Department will notify CBP that a cash deposit of 25.76 percent should be collected for all shipments of subject merchandise by Goldenquality entered, or withdrawn from warehouse, for consumption in the United States on or after the publication of this rescission notice.

Notifications to Interested Parties

This notice serves as a reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (“APO”) of their responsibility concerning the return or destruction of proprietary information disclosed under APO in accordance with 19 CFR 351.305(a). Timely written notification of the return or destruction of APO materials, or conversion to judicial protective order, is hereby requested. Failure to comply with the regulations and terms of an APO is a violation which is subject to sanction.

We are issuing and publishing this rescission and notice in accordance with sections 751(a)(2)(B) and 777(i) of the Act and 19 CFR 351.214(f)(3).

Dated: November 25, 2013.
Christian Marsh,
Deputy Assistant Secretary for Antidumping and Countervailing Duty Operations.

[FR Doc. 2013-28953 Filed 12-2-13; 8:45 am]

BILLING CODE 3510-DS-P